DEPARTMENT OF COMMERCE

National Oceanic and Atmospheric Administration

50 CFR Part 679

[Docket No. 170714670-8309-01]

RIN 0648-BH05

Fisheries of the Exclusive Economic Zone Off Alaska; Reclassifying Squid Species in the BSAI and GOA

AGENCY: National Marine Fisheries Service (NMFS), National Oceanic and Atmospheric Administration (NOAA), Commerce.

ACTION: Proposed rule; request for comments.

SUMMARY: NMFS proposes regulations to implement Amendment 117 to the Fishery Management Plan for Groundfish of the Bering Sea and Aleutian Islands Management Area (BSAI FMP), Amendment 106 to the Fishery Management Plan for Groundfish of the Gulf of Alaska (GOA FMP), and to update the species codes for octopus. This proposed rule would prohibit directed fishing for the squid species complex (squids) by Federally permitted groundfish fishermen and specify a squid retention limit in the GOA groundfish fisheries consistent with the existing BSAI squid retention limit, and would make minor corrections to the octopus species codes. This rule is intended to promote the goals and objectives of the Magnuson-Stevens Fishery Conservation and Management Act, the groundfish FMPs, and other applicable laws.

DATES: Comments must be received no later than May 11, 2018.

ADDRESSES: You may submit comments on this document, identified by NOAA-NMFS-2017-0090 by any of the following methods:

• Electronic Submission: Submit all electronic public comments via the Federal e-Rulemaking Portal. Go to www.regulations.gov/#!docketDetail;D=NOAA-NMFS-2017-0090, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 117 to the BSAI FMP, Amendment 106 to the GOA FMP, and the Environmental Assessment/Regulatory Impact Review (collectively the “Analysis”) prepared for this action may be obtained from www.regulations.gov.

Electronic copies of the Initial Regulatory Flexibility Analyses for the BSAI and GOA Groundfish Harvest Specifications for 2018-2019 may be obtained from www.regulations.gov.

Written comments regarding the burden-hour estimates or other aspects of the collection-of-information requirements contained in this rule may be submitted by mail to NMFS at the above address; by email to OIRA_Submission@omb.eop.gov; or by fax to 202-395-5806.

FOR FURTHER INFORMATION CONTACT: Megan Mackey, 907-586-7228.

SUPPLEMENTARY INFORMATION:

Authority for Action

NMFS manages the groundfish fisheries in the exclusive economic zone of the BSAI and GOA under the BSAI FMP and GOA FMP (collectively the FMPs). The North Pacific Fishery Management Council (Council) prepared these FMPs under the authority of the Magnuson-Stevens Fishery Conservation and Management Act (Magnuson-Stevens Act), 16 U.S.C. 1801 et seq. Regulations implementing these FMPs appear at 50 CFR part 679. General regulations governing U.S. fisheries also appear at 50 CFR part 600.

This proposed rule would implement Amendments 117/106 and update the species code for octopus in several tables to 50 CFR part 679. The Council submitted Amendments 117/106 for review by the Secretary of Commerce (Secretary), and the Notice of Availability (NOA) of these amendments was published in the Federal Register on March 27, 2018, with comments invited through May 29, 2018 (83 FR 13117). Comments may address Amendments 117/106 or this proposed rule, but must be received by May 29, 2018 to be considered in the Secretary's decision to approve, disapprove, or partially approve these amendments.

Background

In June 2017, the Council voted unanimously to recommend Amendments 117/106 to the FMPs to reclassify squids as non-target ecosystem component species, not in need of conservation and management. Squids are currently classified as target species in the FMPs, though as discussed below, squids are currently only caught incidental to other target fisheries. To implement Amendments 117/106, NMFS proposes regulations to prohibit directed fishing for squids by Federally permitted groundfish fishermen and to specify a squid retention limit in the GOA groundfish fisheries consistent with the existing BSAI squid retention limit. The following sections of this preamble provide (1) groundfish stock classification in FMPs and a brief history of this proposed action; (2) the National Standards (NS) guidance for determining which species require conservation and management; (3) a description of Amendments 117/106 to the groundfish FMPs; and (4) the regulatory changes made by this proposed rule.

Stock Classification in FMPs and a Brief History of This Proposed Action

Among other requirements, FMPs must comply with the Magnuson-Stevens Act NS (16 U.S.C. 1851). NMFS has implemented regulations to provide guidance on the interpretation and application of these NS. Relevant to this proposed rule, the NS guidelines at 50 CFR 600.305(d)(11), (12) and (13) define three classifications for stocks in an FMP: (1) Target stocks in need of conservation and management that fishers seek to catch; (2) non-target stocks in need of conservation and management that are caught incidentally during the pursuit of target stocks; and (3) ecosystem component (EC) species that do not require conservation and management, but may be listed in an FMP in order to achieve ecosystem management objectives.

Under the groundfish FMPs, and harvest limit regulations at § 679.20, NMFS must establish an overfishing level (OFL), an acceptable biological catch (ABC) and a total allowable catch (TAC) for each stock or stock complex (i.e., species or species group) that are assigned a target or a non-target species category classification. Overfishing occurs when the amount of catch of a stock or stock complex jeopardizes the capacity of the stock or stock complex to produce the maximum sustainable yield on a continuing basis. NMFS manages fisheries in an effort to ensure that no overfishing limits (OFLs) are exceeded in any year. Regulations at §§ 679.20(d)(1), (d)(2), and (d)(3) define the process NMFS uses to limit or prohibit fishing to prevent overfishing and maintain total catch at or below the OFL. The FMPs define the ABC as the level of a species or species group's annual catch that accounts for the scientific uncertainty in the estimate of OFL and any other scientific uncertainty. The ABC cannot exceed the OFL. Regulations at §§ 679.20(d)(1) and (d)(2) describe the range of management measures that NMFS uses to maintain total catch at or below the ABC. The FMPs define the TAC as the annual catch target for a species or species group, derived from the ABC by considering social and economic factors and management uncertainty. The TAC must be set lower than or equal to the ABC. Regulations at §§ 679.20(d)(1) and (d)(2) describe the range of management measures that NMFS uses to maintain total catch at or below the TAC.

NMFS establishes the OFL, ABC, and TAC for each species or species group through the annual harvest specification process. For the most recent example of the annual harvest specifications, please see the final 2017/2018 annual harvest specifications (82 FR 11826, February 27, 2017 and 82 FR 12032, February 27, 2017).

In 2010, Amendments 96/87 to the BSAI and GOA FMPs, respectively, established the EC category and designated prohibited species (salmon, steelhead trout, crab, halibut, and herring) and forage fish species (as defined in Table 2c to 50 CFR part 679 and § 679.20(i)) as EC species in the groundfish FMPs (75 FR 61639, October 6, 2010). Under the FMPs, EC species are defined as non-target species for which catch specifications (i.e., an OFL, ABC, or TAC) are not required. For these EC species, NMFS maintained regulations that (1) banned the retention of prohibited species, (2) prohibited directed fishing for forage fish, and (3) established a limit, known as the maximum retainable amount (MRA), on the amount of incidental harvest of forage fish while directed fishing for other groundfish species. Regulations at 50 CFR 679.2 define the term “directed fishing.” Regulations at § 679.20(e) describe the application and calculation of MRAs.

In 2015, NMFS implemented Amendments 100/91 to the BSAI and GOA FMPs, respectively, to add grenadiers (family Macrouridae) to the EC category (80 FR 11897, March 5, 2015). The Council and NMFS added grenadiers to the FMPs in the EC category because grenadiers did not require conservation and management, but acknowledged their role in the ecosystem and limited the groundfish fisheries' potential impact on grenadiers. Adding grenadiers to the EC category allowed for improved data collection and catch monitoring appropriate for grenadiers given their abundance, distribution, and catch. Additional detail is provided in the final rule implementing Amendments 100/91, and is not repeated here (80 FR 11897, March 5, 2015).

Squids are currently classified as target species in the groundfish FMPs and directed fishing for squids is allowed. However, TAC levels established annually for squids are too low to support a directed fishery in either the BSAI or GOA. Directed fishing for squids has been closed in the BSAI and GOA since 2011 (76 FR 11139, March 1, 2011). NMFS places squids on bycatch-only status at the beginning of each year through the annual harvest specifications.

Since 2010, the Council's non-target committee, Plan Teams, and Scientific and Statistical Committee have recommended that the Council explore reclassifying squids as EC category species because they do not meet the target species category classification; there is no demand for squid and squid have not been targeted or open to directed fishing in either the BSAI or GOA for many years (see Analysis section 1.2). Further, there is no conservation concern for squids because they are extremely short-lived and highly productive, the current fishing mortality is considered insignificant at a population level, and they are unlikely to be overfished in the absence of a directed fishery (see Analysis section 3.2.5).

Current OFLs and ABCs for squids are based on average catch calculations. While these limits are based on the best available scientific information, they are poorly linked to abundance. Most squids in the BSAI and GOA are associated with the pelagic environment, occurring in the water column. As described in section 3.2 of the Analysis, only three of the fifteen species of squids in the BSAI and GOA are found close to the ocean floor, and most of the available information on the distribution and abundance of squids derives from NMFS's bottom trawl surveys. Even demersal squids reside off the bottom and bottom trawl surveys do not sample squids well, though they better reflect the distribution and abundance of the three species of squids found in association with the bottom than the species in the water column. The bottom trawl survey likely underestimates biomass of squids.

While biomass estimates for squid are limited, ecosystem models can be used to estimate squid densities based upon the food habits and consumption rates of predators of squids. As described below, based on information derived from ecosystem models in the BSAI and GOA, the Council and NMFS believe that catch-based estimates of OFLs and ABCs for squids are highly underestimated (see section 3.2.2 of the Analysis). If surveys were more aligned with squid distribution, NMFS expects that squid biomass estimates, and subsequently squid OFLs and ABCs would be substantially higher (see section 3.2.3 of the Analysis).

Under the current stock classification for squids as a target species, if the total TACs of squids are caught in the BSAI or GOA, retention of squids is prohibited in that management area for the remainder of year. If NMFS projects that incidental catch of squids in directed fisheries for groundfish species will exceed the squids OFL, NMFS may close directed fishing for those groundfish species in a management area to prevent exceeding the squids OFL (see regulations at § 679.20(d)(3)). The GOA squids TAC has not been exceeded, however the BSAI squids TAC was exceeded in 2012, 2014, and 2015. In 2015, for the first time, the BSAI squids catch exceeded the ABC and total catch was approaching the OFL (see Analysis section 3.2.3).

Section 3.2.3 of the Analysis provides a detailed description of incidental catch of squids in the BSAI and GOA groundfish fisheries. Historically, the Bering Sea pollock fishery has taken the largest amount of squids relative to the TAC, ABC, and OFL for BSAI squids. Although NMFS has not needed to close the Bering Sea pollock fishery, or other groundfish fisheries in the BSAI or GOA, to directed fishing to prevent exceeding the squids OFL, the Bering Sea pollock fishery has undertaken measures to avoid the incidental harvest of squids and exceeding the BSAI squids OFL.

As described in section 3.2.4 of the Analysis, the Bering Sea pollock fleet has coordinated with NMFS and identified areas of relatively high squids catch. The Bering Sea pollock fleet has voluntarily established specific areas where squids catch is elevated and has moved fishing operations out of these areas they term “squid boxes” prior to NMFS taking action. In the process of moving away from areas of high bycatch of squids, the Bering Sea pollock fleet may inadvertently encounter areas of increased bycatch of other species such as chum salmon, Chinook salmon, and herring for which there is greater conservation concern (see Analysis section 3.3).

Determining Which Species Require Conservation and Management

Section 302(h)(1) of the Magnuson-Stevens Act requires a council to prepare an FMP for each fishery under its authority that is in need of conservation and management. “Conservation and management” is defined in section 3(5) of the Magnuson-Stevens Act. The NS guidelines at § 600.305(c) (revised on October 18, 2016, 81 FR 718585), provide direction for determining which stocks will require conservation and management and provide direction to regional councils and NMFS for how to consider these factors in making this determination. Specifically, the guidelines direct regional councils and NMFS to consider a non-exhaustive list of ten factors when deciding whether stocks require conservation and management.

Section 2.2.1 in the Analysis considers each of the ten factors' relevance to squids. The analysis showed that squids are an important component of the marine environment, particularly due to their importance as prey for marine mammals, fish and other squids. However, despite being classified as a target species, there are currently no directed fisheries for squids. Squids are not important to commercial, recreational or subsistence users and the fisheries for BSAI and GOA squids are not important to the National or regional economy. There are no developing fisheries for squids in the EEZ off Alaska nor in waters of the State of Alaska (State). Currently, the State adopts the MRAs established in the Federal fisheries for fisheries in State waters. In the absence of a directed fishery, squids are unlikely to become overfished because they are short-lived, highly productive, and current surveys are considered substantial underestimates of true squids biomass in both the BSAI and GOA. Therefore, maintaining squids in the FMPs for conservation and management is not likely to improve or maintain the condition of the stocks.

Amendments 117/106 to the FMPs

In June of 2017, the Council recommended, and NMFS now proposes, Amendments 117/106 to the BSAI and GOA FMPs, respectively, to reclassify squids as EC category species in the FMPs. Based on a review of the scientific information, and after considering the revised NS guidelines, the Council and NMFS determined that squids are not in need of conservation and management, and that classifying squids in the EC category is an appropriate action.

While the Council determined that squids are not in need of conservation and management as defined by the Magnuson-Stevens Act, and after considering the revised NS guidelines, the Council and NMFS determined that there are benefits to retaining squids as an EC species complex in the FMPs, especially given their ecological importance in the BSAI and GOA.

In contrast to the BSAI where the squid TAC has been exceeded in the past and constrained fishing, the annual catch of squids has not exceeded the GOA TAC, ABC or approached the OFL, and management measures have not constrained GOA groundfish species (see section 3.2.4 of the Analysis). However, due to the lack of directed fisheries for squids in the GOA and the determination that squids are not in need of conservation and management in the GOA, the Council recommended and NMFS proposes Amendment 106 to the GOA FMP to accurately classify the squid complex in the FMP based on the best available information and for consistency with squid management in the BSAI proposed under Amendment 117.

Amendments 117/106 would establish the squids EC species complex in the FMPs to clarify that they are non-target species and would require monitoring the effects of incidental catch of squids in the groundfish fisheries on squid populations. Amendments 117/106 would allow NMFS to prohibit directed fisheries for squids and limit the retention and commercial sale of squids. By virtue of being classified as EC species, catch specifications for squids (i.e., OFLs, ABCs, and TACs) would no longer be required.

Though the Council determined, and NMFS concurs, that squids are not in need of conservation and management, squid population status and bycatch should be monitored to continually assess vulnerability of squids to the fishery given their importance in the ecosystem. Therefore, the proposed rule retains record keeping and reporting requirements for squid bycatch. The proposed rule would prohibit directed fishing for squids to meet the intent of Amendments 117/106 that squids are not a target species complex. Because the definition of directed fishing at § 679.2 is based on an MRA, the proposed rule would specify a retention limit for squids so that NMFS could implement the prohibition on directed fishing to meet the intent of Amendments 117/106.

Proposed Rule

In addition to classifying squids as an EC species in the FMPs under Amendments 117/106, the Council recommended and NMFS proposes regulations to limit and monitor the incidental catch of squids. This proposed rule would—

• Prohibit directed fishing for squids in the BSAI and GOA groundfish fisheries;

• maintain recordkeeping and reporting of squids in the BSAI and GOA groundfish fisheries, but modify the regulations for clarity;

• specify a squids retention limit, or MRA, in the GOA Federal groundfish fisheries consistent with the existing BSAI squids MRA of 20 percent; and

• revise the species code tables in the regulations to indicate octopus is a multi-species category by using the plural, octopuses.

To prohibit directed fishing, this proposed rule would revise §§ 679.20(i) and 679.22(i) to prohibit directed fishing for squids at all times in the BSAI and GOA groundfish fisheries. This prohibition is consistent with the regulations and management approach for other EC species. With respect to EC species, NMFS prohibits directed fishing for forage fish and grenadiers,

To clarify definitions and recordkeeping and reporting requirements, this proposed rule would add a definition for squids at § 679.2. Recordkeeping and reporting regulations at § 679.5 would not be modified by this proposed rule, but would continue to require a vessel operator or manager in a BSAI or GOA groundfish fishery to record and report retained and discarded squids in logbooks, landing reports, and production reports. This proposed rule would add an instruction to § 679.5 to use the squids species code in Table 2c to 50 CFR part 679 (Table 2c) to record and report squid catch. Table 2c lists the species reporting codes for non-target groundfish FMP species. NMFS would modify Table 2c to add one squid species code and remove the existing squid species code from Table 2a to 50 CFR part 679 (species reporting codes for target groundfish FMP species) because squids would be removed as a target species in the groundfish FMPs. These revisions would maintain NMFS' ability to monitor the catch, retention, and discard of squids.

Section 679.20 provides the general limitations for the BSAI and GOA groundfish fisheries. Because a TAC would no longer be specified for squids, this proposed rule would remove squids from § 679.20(b)(2), which specifies the amount of the TAC that is reserved for inseason management flexibility.

The MRA is the proportion or percentage of retained catch of a species closed for directed fishing (incidental catch species) to the retained catch of a species open for directed fishing (basis species). This proposed rule would move squids out of the basis species category and into the incidental catch species category consistent with the prohibition on directed fishing for squids under this proposed rule. In the GOA, squids are included in the “other species” category (along with sculpins, octopus, and sharks) for MRA purposes under the existing regulations. To specify a separate MRA for squids in the GOA, this proposed rule would remove squids from footnote 6, “other species” in Table 10 to 50 CFR part 679 and add squids as an incidental catch species with an MRA of 20 percent. This proposed rule would similarly revise Table 11 to 50 CFR part 679 to remove squids as a basis species in the BSAI and add squids and grenadiers footnote 7 to indicate that forage fish, grenadiers, and squids are all defined in Table 2c. This proposed change would render obsolete, footnote 9 to Table 11 at 50 CFR part 679, and it would be removed.

In developing this proposed rule, the Council and NMFS considered a range of squids MRA percentages: 2 percent, 10 percent, and the current MRA of 20 percent. The Analysis (Table 3-20) provides the percentage range of squids taken incidental to the directed pollock fisheries, by haul, in the GOA and BSAI from 2013 through 2016. The majority of the hauls contained less than two percent squids. Many hauls contained greater than two percent squids, thus an MRA of two percent has the potential to be highly constraining. Likewise, while hauls with greater than 10 percent of squids were infrequent, an MRA of 10 percent also has the potential to constrain the directed fisheries. Section 4.6.2 of the Analysis discusses that a more constraining MRA is more likely to increase discards of dead squids rather than discourage targeting. There are no conservation concerns for squids. Therefore, the Council recommended and NMFS proposes specifying an MRA for squids of 20 percent in the GOA groundfish fisheries consistent with the existing MRA for squids in the BSAI groundfish fisheries.

This proposed rule would also correct a minor technical inaccuracy in the species code for octopus. The species code for octopus in the existing regulations does not reflect the diversity of octopus species in the BSAI and GOA and refers to only one species—North Pacific octopus. Several species of octopuses occur in the BSAI and GOA. To accurately reflect the diversity of octopuses taken in the groundfish fisheries, this proposed rule would revise species code 870 in Table 2a to 50 CFR part 679 to indicate multiple species by using the plural “octopuses.” This proposed rule would also revise Table 10 to 50 CFR part 679 to update octopus in footnote 6 to the plural “octopuses.” In addition, footnote 4 in Table 11 to part 50 CFR 679 would be revised to include the plural for octopus. This proposed correction would not affect existing reporting requirements.

Classification

Pursuant to sections 304(b)(1)(A) and 305(d) of the Magnuson-Stevens Act, the NMFS Assistant Administrator has determined that this proposed rule is consistent with Amendment 117 to the BSAI FMP, Amendment 106 to the GOA FMP, other provisions of the Magnuson-Stevens Act, and other applicable law, subject to further consideration after public comment.

This proposed rule has been determined to be not significant for the purposes of Executive Order 12866.

Regulatory Impact Review (RIR)

An RIR was prepared to assess the costs and benefits of available regulatory alternatives. A copy of this analysis is available from NMFS (see ADDRESSES). The Council recommended Amendments 117/106 based on those measures that maximized net benefits to the Nation. Specific aspects of the economic analysis related to the impact of this proposed rule on small entities are discussed below in the Initial Regulatory Flexibility Analysis section.

Initial Regulatory Flexibility Analysis (IRFA)

This IRFA was prepared for this proposed rule, as required by section 603 of the Regulatory Flexibility Act (RFA), to describe the economic impact this proposed rule, if adopted, would have on small entities. An IRFA describes why this action is being proposed; the objectives and legal basis for the proposed rule; the number of small entities to which the proposed rule would apply; any projected reporting, recordkeeping, or other compliance requirements of the proposed rule; any overlapping, duplicative, or conflicting Federal rules; and any significant alternatives to the proposed rule that would accomplish the stated objectives, consistent with applicable statutes, and that would minimize any significant adverse economic impacts of the proposed rule on small entities. Descriptions of this proposed rule, its purpose, and the legal basis are contained earlier in this preamble and are not repeated here.

Number and Description of Small Entities Regulated by This Proposed Rule

This proposed rule would directly regulate any vessel operator harvesting squids in the Federally managed groundfish fisheries in the BSAI and GOA. The thresholds applied to determine if an entity or group of entities are “small” under the RFA depend on the industry classification for the entity or entities. Businesses classified as primarily engaged in commercial fishing are considered small entities if they have combined annual gross receipts not in excess of $11.0 million for all affiliated operations worldwide (81 FR 4469; January 26, 2016). The most recent estimates of the number of fishing vessels participating in the BSAI and GOA groundfish fisheries that are small entities are provided in Table 2 in the Initial Regulatory Flexibility Analyses for the BSAI and GOA Harvest Specifications for 2018-2019 (see ADDRESSES). In 2016, there were 119 catcher vessels and 5 catcher/processors in the BSAI, and 920 catcher vessels and 3 catcher/processors in the GOA. These estimates likely overstate the number of small entities in the groundfish fisheries off Alaska because some of these vessels are affiliated through common ownership or membership in a cooperative and the affiliated vessels together would exceed the $11.0 million annual gross receipts threshold for small entities.

The only potential adverse economic impact that has been identified for this proposed rule is that vessel owners or operators who may wish to conduct directed fishing for squids in the future, and who would wish to retain more squids than they would be allowed to retain under the 20 percent MRA, would not be able to do so. This potential adverse impact would not affect any current participants relative to opportunities available to them in recent years, because directed fishing for squid has been closed in the BSAI and GOA since 2011. Therefore, no current participants would lose an economic opportunity that is available to them today or has been available to them in recent years.

The degree to which this proposed rule could limit current fishery permit holders' future economic activity in the BSAI or GOA could be viewed as an adverse impact of this proposed rule. This adverse economic impact could affect any future participant in these groundfish fisheries. Therefore, all fishing vessels currently participating in the BSAI and GOA groundfish fisheries that are small entities could be adversely impacted by this proposed rule in the future. However, based on the very limited number of vessel operators who have expressed interest in conducting directed fishing for squids in the past, the actual number of small entities that would be adversely impacted by this proposed rule is likely zero or very few. Vessel operators may continue to catch and retain squids in the BSAI and GOA groundfish fisheries as long as they maintain their catch within the 20 percent MRA.

For operators of vessels currently participating in these fisheries, the economic impacts of this proposed rule are primarily beneficial or neutral. Removing squids from the BSAI target species category would remove the squids TAC from inclusion in the 2 million mt optimum yield (OY) cap in the BSAI. The amount of the OY cap that has been reserved for squids would be available to increase the TAC limit or limits for other BSAI target species. This effect would benefit participants in the BSAI fisheries that experience TAC increases relative to what the TACs would have been without this proposed rule. Some of the entities that experience benefits from increased TACs in the future may be small entities. The effects on target species TACs would be neutral for the GOA fisheries, as the OY has not constrained TACs in the GOA to date. Therefore, removing the squids TAC in the GOA will not allow for an increase in the TAC for another target species.

For participants in the Bering Sea pollock fishery, moving squids from the target species category to the EC category will remove the squid OFL as a potential constraint for the Bering Sea pollock fishery, thereby increasing the flexibility of the Bering Sea pollock fishery participants to focus on minimizing the bycatch of salmon and other PSC in the pollock fisheries. Removing this constraint would reduce the costs associated with trying to simultaneously minimize the incidental catch of squid and the incidental catch of salmon and other PSC. However, none of the directly regulated entities in the Bering Sea pollock fishery are considered small entities because all of them are affiliated through either ownership or membership in a cooperative and, when considered together, have annual gross receipts that exceed $11.0 million annually.

Recordkeeping, Reporting, and Other Compliance Requirements

Under this proposed rule, requirements for recording and reporting the catch, discard, and production of squid in logbooks or on catch or production reports will be maintained as they are in existing regulations. The proposed rule would make only minor modifications to clarify the recordkeeping and reporting requirements in § 679.5, Table 2a to 50 CFR part 679, and Table 2c to 50 CFR part 679. Therefore, moving squids from the target species category to the EC category will not change recordkeeping and reporting costs for fishery participants or impose any additional or new costs on participants.

Duplicate, Overlapping, or Conflicting Federal Rules

No duplication, overlap, or conflict between this proposed rule and existing Federal rules has been identified.

Description of Significant Alternatives That Minimize Adverse Impacts on Small Entities

The Council and NMFS considered three alternatives. Among the three alternatives, Alternative 2 Option 3 (the preferred alternative) provides the most economic benefits to current participants in the BSAI and GOA groundfish fisheries. The primary economic benefit of this proposed rule is to reduce the potential constraints imposed by the OFLs, ABCs, and TACs for squids on BSAI and GOA groundfish fisheries. Among the three options considered for the squids MRA (20 percent, 10 percent, and 2 percent), the 20 percent MRA that was selected minimizes the economic impact on any fishing vessel that is a small entity because it provides the greatest opportunity to retain squid as incidental catch in other groundfish fisheries.

Alternative 1 is the no action alternative and would continue to classify squids as target species in the groundfish FMPs. OFLs, ABCs, and TACs would continue to be set for squids as a species group in both the BSAI and GOA. Relative to Alternative 2, Alternative 1 could be considered less beneficial to small entities because all catch specifications would need to be maintained, and current constraints on the BSAI and GOA groundfish fisheries would continue. However, Alternative 2 (the proposed rule) also could be considered more restrictive to small entities than Alternative 1 if the prohibition on directed fishing for squids under the proposed rule limits future participants' ability to conduct directed fishing for squids more so than would occur under the status quo. Alternative 1 allows NMFS to determine annually whether to open a directed fishery for squids.

Alternative 2 would classify squids in the BSAI and GOA in the EC category and implement a regulation prohibiting directed fishing for squids that could only be revised through subsequent rulemaking. However, the Council recommended and NMFS proposes that the benefits of the proposed rule to current fishery participants, including small entities, outweigh the potential future adverse impacts of the prohibition against directed fishing for squids. In addition, this provision can be re-evaluated by the Council and NMFS in the future if fishery participants want to develop directed fisheries for squids.

Alternative 3 would classify squids in the groundfish FMPs as “non-target” species, in which case OFLs and ABCs would still be established but TAC would no longer be specified. Relative to Alternative 2, Alternative 3 is less beneficial to small entities because certain catch specifications and their associated fishery constraints would still need to be maintained. When comparing Alternatives 1 and 3, Alternative 3 would remove the requirement for setting TACs; however, the current potential constraints on other groundfish fisheries if an OFL or ABC for squids were achieved would continue, and therefore Alternative 3 is only slightly more beneficial than Alternative 1 to small entities.

Collection-of-Information Requirements

This proposed rule refers to collection-of-information (“recordkeeping and reporting”) requirements approved by the Office of Management and Budget (OMB) under the Paperwork Reduction Act (PRA). The relevant information collections are approved under OMB control number 0648-0213 (Alaska Region Logbook Family of Forms) and OMB control number 0648-0515 (Alaska Interagency Electronic Reporting System). The proposed rule would make minor revisions to these information collection requirements to clarify the location of the species code for squids in the tables to 50 CFR part 679. These revisions do not change the public reporting burden of the approved information collections or require revisions to the currently approved supporting statements for these collections.

Send comments on these or any other aspects of the collection of information to NMFS Alaska Region at the ADDRESSES above, by email to OIRA_Submission@omb.eop.gov, or by fax to (202) 395-5806.

Notwithstanding any other provision of the law, no person is required to respond to, and no person shall be subject to penalty for failure to comply with, a collection of information subject to the requirements of the PRA, unless that collection of information displays a currently valid OMB control number. All currently approved NOAA collections of information may be viewed at http://www.cio.noaa.gov/services_programs/prasubs.html.

List of Subjects in 50 CFR Part 679

Alaska, Fisheries, Recordkeeping and reporting requirements.

Dated: April 6, 2018.
Samuel D. Rauch III,
Deputy Assistant Administrator for Regulatory Programs, National Marine Fisheries Service.

For the reasons set out in the preamble, 50 CFR part 679 is proposed to be amended as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.2, add a definition for “Squids” in alphabetical order to read as follows:

§ 679.2 Definitions.

* * * * *

Squids (see Table 2c to this part and § 679.20(i)).

* * * * *

3. In § 679.5, revise paragraph (a)(3) introductory text, and paragraphs (c)(3)(vi)(F), and (c)(4)(vi)(E) to read as follows:

§ 679.5 Recordkeeping and reporting (R&R).

(a) * * *

(3) Fish to be recorded and reported. The operator or manager must record and report the following information (see paragraphs (a)(3)(i) through (iv) of this section) for all groundfish (see Table 2a to this part), prohibited species (see Table 2b to this part), forage fish (see Table 2c to this part), grenadiers (see Table 2c to this part), and squids (see Table 2c to this part). The operator or manager may record and report the following information (see paragraphs (a)(3)(i) through (iv) of this section) for non-groundfish (see Table 2d to this part):

* * * * *

(c) * * *

(3) * * *

(vi) * * *

(F) Species codes. The operator must record and report required information for all groundfish (see Table 2a to this part), prohibited species (see Table 2b to this part), forage fish (see Table 2c to this part), grenadiers (see Table 2c to this part), and squids (see Table 2c to this part). The operator may record and report information for non-groundfish (see Table 2d to this part).

* * * * *

(4) * * *

(vi) * * *

(E) Species codes. The operator must record and report required information for all groundfish (see Table 2a to this part), prohibited species (see Table 2b to this part), forage fish (see Table 2c to this part), grenadiers (see Table 2c to this part), and squids (see Table 2c to this part). The operator may record and report information for non-groundfish (see Table 2d to this part).

* * * * *

4. In § 679.20, revise paragraph (b)(2) introductory text, paragraph (i) heading, and paragraphs (i)(3), (i)(4), and (i)(5) to read as follows:

§ 679.20 General limitations.

* * * * *

(b) * * *

(2) GOA. Initial reserves are established for pollock, Pacific cod, flatfish, octopuses, sharks, and sculpins, which are equal to 20 percent of the TACs for these species or species groups.

* * * * *

(i) Forage fish, grenadiers, and squids.

* * * * *

(3) Closure to directed fishing. Directed fishing for forage fish, grenadiers, and squids is prohibited at all times in the BSAI and GOA.

(4) Limits on sale, barter, trade, and processing. The sale, barter, trade, or processing of forage fish, grenadiers, and squids is prohibited, except as provided in paragraph (i)(5) of this section.

(5) Allowable fishmeal production. Retained catch of forage fish, grenadiers, or squids not exceeding the maximum retainable amount may be processed into fishmeal for sale, barter, or trade.

* * * * *

5. In § 679.22, revise paragraph (i) to read as follows:

§ 679.22 Closures.

* * * * *

(i) Forage fish, grenadiers, and squids closures. See § 679.20(i)(3).

* * * * *

6. Revise Table 2a to part 679 to read as follows:

Table 2a to Part 679—Species Codes: FMP Groundfish
Species description | Code
Atka mackerel (greenling) | 193
Flatfish, miscellaneous (flatfish species without separate codes) | 120
Flounder:
Alaska plaice | 133
Arrowtooth | 121
Bering | 116
Kamchatka | 117
Starry | 129
Octopuses | 870
Pacific cod | 110
Pollock | 270
Rockfish:
Aurora (Sebastes aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. variabilis) | 172
Greenstriped (S. elongatus) | 135
Harlequin (S. variegatus) | 176
Northern (S. polyspinis) | 136
Pacific Ocean Perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
Sharks:
Other (if salmon, spiny dogfish or Pacific sleeper shark—use specific species code) | 689
Pacific sleeper | 692
Salmon | 690
Spiny dogfish | 691
Skates:
Alaska (Bathyraja parmifera) | 703
Aleutian (B. aleutica) | 704
Whiteblotched (B. maculate) | 705
Big (Raja binoculata) | 702
Longnose (R. rhina) | 701
Other (if Alaska, Aleutian, whiteblotched, big, or longnose skate—use specific species code) | 700
Sole:
Butter | 126
Dover | 124
English | 128
Flathead | 122
Petrale | 131
Rex | 125
Rock | 123
Sand | 132
Yellowfin | 127
Turbot, Greenland | 134

7. Revise Table 2c to part 679 to read as follows:

Table 2c to Part 679—Species Codes: FMP Forage Fish Species (All Species of the Following Families), Grenadier Species, and Squids
Species Identification | Code
Forage Fish:
Bristlemouths, lightfishes, and anglemouths (family Gonostomatidae) | 209
Capelin smelt (family Osmeridae) | 516
Deep-sea smelts (family Bathylagidae) | 773
Eulachon smelt (family Osmeridae) | 511
Gunnels (family Pholidae) | 207
Krill (order Euphausiacea) | 800
Lanternfishes (family Myctophidae) | 772
Pacific Sand fish (family Trichodontidae) | 206
Pacific Sand lance (family Ammodytidae) | 774
Pricklebacks, war-bonnets, eelblennys, cockscombs and Shannys (family Stichaeidae) | 208
Surf smelt (family Osmeridae) | 515
Grenadiers:
Giant Grenadiers (Albatrossia pectoralis) | 214
Other Grenadiers | 213
Squid:
Squids | 875

BILLING CODE 3510-22-P

8. Revise Table 10 to part 679 to read as follows:

BILLING CODE 3510-22-C

9. Revise Table 11 to part 679 to read as follows:

[FR Doc. 2018-07510 Filed 4-10-18; 8:45 am]

BILLING CODE 3510-22-P